DEPARTMENT OF ENERGY

Federal Energy Regulatory Commission

Combined Notice of Filings No. 1

September 29, 2010.

Take notice that the Commission has received the following Natural Gas Pipeline Rate and Refund Report filings:

Docket Numbers: RP10-1348-000.

Applicants: Columbia Gulf Transmission Company.

Description: Columbia Gulf Transmission Company submits its Transportation Retainage Adjustment (TRA)—Periodic Filing Decrease in Retainage, to be effective 11/1/2010

Filed Date: 09/28/2010.

Accession Number: 20100928-5230.

Comment Date: 5 p.m. Eastern Time on Tuesday, October 12, 2010.

Docket Numbers: RP10-1349-000.

Applicants: ANR Storage Company.

Description: ANR Storage Company submits tariff filing per 154.204: Op. Purchase & Sales, ROFR to be effective 10/29/2010.

Filed Date: 09/28/2010.

Accession Number: 20100928-5291.

Comment Date: 5 p.m. Eastern Time on Tuesday, October 12, 2010.

Docket Numbers: RP10-1350-000.

Applicants: Viking Gas Transmission Company.

Description: Viking Gas Transmission Company submits tariff filing per 154.403(d)(2): Semi Annual FLRP-Fall 2010 to be effective 11/1/2010.

Filed Date: 09/28/2010.

Accession Number: 20100928-5313.

Comment Date: 5 p.m. Eastern Time on Tuesday, October 12, 2010.

Docket Numbers: RP10-1351-000.

Applicants: Hampshire Gas Company.

Description: Hampshire Gas Company submits tariff filing per 154.203: Hampshire Gas Company Baseline Gas Tariff to be effective 9/28/2010.

Filed Date: 09/28/2010.

Accession Number: 20100928-5327.

Comment Date: 5 p.m. Eastern Time on Tuesday, October 12, 2010.

Docket Numbers: RP10-1352-000.

Applicants: Gulf South Pipeline Company, LP.

Description: Gulf South Pipeline Company, LP submits tariff filing per 154.204: Oneok to BG Energy to be effective 10/1/2010.

Filed Date: 09/28/2010.

Accession Number: 20100928-5333.

Comment Date: 5 p.m. Eastern Time on Tuesday, October 12, 2010.

Docket Numbers: RP10-1353-000.

Applicants: Transcontinental Gas Pipe Line Company, LLC.

Description: Transcontinental Gas Pipe Line Company, LLC submits tariff filing per 154.501: Annual Cash-Out Report Period Ending July 31, 2010 to be effective N/A.

Filed Date: 09/28/2010.

Accession Number: 20100928-5424.

Comment Date: 5 p.m. Eastern Time on Tuesday, October 12, 2010.

Docket Numbers: RP10-1354-000.

Applicants: Mojave Pipeline Company, LLC.

Description: Mojave Pipeline Company, LLC submits tariff filing per 154.203: RP10-1052 Compliance Filing to be effective 10/29/2010.

Filed Date: 09/28/2010.

Accession Number: 20100928-5427.

Comment Date: 5 p.m. Eastern Time on Tuesday, October 12, 2010.

Docket Numbers: RP10-1355-000.

Applicants: CenterPoint Energy—Mississippi River Transmission Corporation.

Description: CenterPoint Energy—Mississippi River Transmission Corporation submits tariff filing per 154.204: Non-Conforming Operational Balancing Agreement with Ozark Gas Transmission, LLC to be effective 11/1/2010.

Filed Date: 09/28/2010.

Accession Number: 20100928-5445.

Comment Date: 5 p.m. Eastern Time on Tuesday, October 12, 2010.

Docket Numbers: RP10-1356-000.

Applicants: Kern River Gas Transmission Company.

Description: Kern River Gas Transmission Company submits tariff filing per 154.204: Original Volume 1A to be effective 11/1/2010.

Filed Date: 09/28/2010.

Accession Number: 20100928-5446.

Comment Date: 5 p.m. Eastern Time on Tuesday, October 12, 2010.

Docket Numbers: RP10-1357-000.

Applicants: PetroLogistics LLC.

Description: PetroLogistics LLC submits tariff filing per 154.203: PetroLogistics Natural Gas Storage LLC FERC Gas Tariff Volume 1 to be effective 9/28/2010.

Filed Date: 09/28/2010.

Accession Number: 20100928-5450.

Comment Date: 5 p.m. Eastern Time on Tuesday, October 12, 2010.

Docket Numbers: RP10-1358-000.

Applicants: Dominion Transmission, Inc.

Description: Dominion Transmission, Inc. submits tariff filing per 154.204: DTI—Dominion Hub II incremental rate to be effective 11/1/2010.

Filed Date: 09/29/2010.

Accession Number: 20100929-5065.

Comment Date: 5 p.m. Eastern Time on Tuesday, October 12, 2010.

Docket Numbers: RP10-1359-000.

Applicants: Dominion Transmission, Inc.

Description: Dominion Transmission, Inc. submits tariff filing per 154.204: DTI—Dominion Hub III incremental rate to be effective 11/1/2010.

Filed Date: 09/29/2010.

Accession Number: 20100929-5066.

Comment Date: 5 p.m. Eastern Time on Tuesday, October 12, 2010.

Docket Numbers: RP10-1360-000.

Applicants: Guardian Pipeline, L.L.C.

Description: Guardian Pipeline, L.L.C. submits tariff filing per 154.403(d)(2): Transporter's Use Gas Annual Adjustment to be effective 11/1/2010.

Filed Date: 09/29/2010.

Accession Number: 20100929-5068.

Comment Date: 5 p.m. Eastern Time on Tuesday, October 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-25558 Filed 10-8-10; 8:45 am]

BILLING CODE 6717-01-P